DEPARTMENT OF STATE

[Public Notice 6169]

Determination Under Section 608 of the Department of State, Foreign Operations, and Related Programs Appropriations Act, 2008 (Div. J, Pub. L. 110-161) With Respect to Pakistan

Pursuant to the authority vested in me as Secretary of State, including by Section 608 of the Department of State, Foreign Operations, and Related Programs Appropriations Act, 2008 (Div. J, Pub. L. 110-161), and Executive Order 12163, as amended, I hereby determine and certify that subsequent to the termination of assistance to the Government of Pakistan after a military coup on October 12, 1999, a democratically elected government has taken office in Pakistan as of March 25, 2008, permitting immediate resumption of assistance.

I direct that this Determination be published in the Federal Register and transmitted to the Congress.

Dated: March 28, 2008.
Condoleezza Rice,
Secretary of State, Department of State.

[FR Doc. E8-7477 Filed 4-8-08; 8:45 am]

BILLING CODE 4710-10-P